COMMITTEE FOR PURCHASE FROM PEOPLE WHO ARE BLIND OR SEVERELY DISABLED

Procurement List; Additions and Deletion

AGENCY: Committee for Purchase From People Who Are Blind or Severely Disabled.

ACTION: Additions to and deletion from procurement list.

SUMMARY: This action adds to the Procurement List products to be furnished by nonprofit agencies employing persons who are blind or have other severe disabilities, and deletes from the Procurement List a service previously furnished by such agencies.

EFFECTIVE DATE: December 14, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions

On August 8, September 12, and September 19, 2003, the Committee for Purchase From People Who Are Blind or Severely Disabled published notice (68 FR 47292, 53710, and 45886) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products

Product/NSN: Can Opener M.R. 1841

Product/NSN: Vegetable Peeler M.R. 1842

NPA: Cincinnati Association for the Blind, Cincinnati, Ohio

Contract Activity: Defense Commissary Agency (DeCA), Ft. Lee, Virginia

Product/NSN: Professional LYSOL Brand II Aerosol Disinfectant Spray 6840-00-NIB-0039—Original Scent; 6840-00-NIB-0040—Fresh Scent; 6840-00-NIB-0041—Country Scent;

6840-00-NIB-0042—Crisp Linen Scent; 6840-00-NIB-0043—Spring Waterfall Scent; 6840-00-NIB-0044—Plus Fabric Refresher

NPA: L.C. Industries for the Blind, Inc., Durham, North Carolina

Contract Activity: Office Supplies & Paper Products Acquisition Center, New York, New York

Product/NSN: Safety Armband M.R. 1756—Medium; M.R. 1759—Large

NPA: L.C. Industries for the Blind, Inc., Durham, North Carolina at its facility in Hazlehurst, Mississippi

Contract Activity: Defense Commissary Agency (DeCA), Ft. Lee, Virginia

Product/NSN: Slimline Workstation Clocks 6645-00-NIB-0102—6″ Brown Case; 6645-00-NIB-0103—6″ Black Case; 6645-00-NIB-0104—6″ Brown Case—Federal Logo 6645-00-NIB-0105—12″ Wall Clock—Putty Case; 6645-00-NIB-0106—6″ Black Case—Federal Logo 6645-00-NIB-0107—12″ Wall Clock—Putty Case—Federal Logo;

NPA: The Chicago Lighthouse for People Who Are Blind or Visually Impaired, Chicago, Illinois

Contract Activity: Office Supplies & Paper Products Acquisition Center, New York, New York, Product/NSN: Wobble Wedges M.R. 1835

NPA: West Texas Lighthouse for the Blind, San Angelo, Texas

Contract Activity: Defense Commissary Agency (DeCA), Ft. Lee, Virginia

Deletions

On September 19, 2003 the Committee for Purchase From People Who Are Blind or Severely Disabled published notice (68 FR 54887) of proposed deletion to the Procurement List. After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in any additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Grounds Maintenance, Vacant Family Housing Quarters, Fort Campbell, Kentucky

NPA: Progressive Directions, Inc., Clarksville, Tennessee

Contract Activity: Department of the Army, Fort Campbell, Kentucky

Sheryl D. Kennerly,
Director, Information Management.

[FR Doc. 03-28522 Filed 11-13-03; 8:45 am]

BILLING CODE 6353-01-P